ENVIRONMENTAL PROTECTION AGENCY

[EPA-HQ-OPP-2008-0102; FRL-8351-8]

Exposure Modeling Public Meeting

AGENCY: Environmental Protection Agency (EPA).

ACTION: Notice.

SUMMARY: An Exposure Modeling Public Meeting (EMPM) will be held for one day on March 11, 2008. This notice announces the location and time for the meeting and sets forth the tentative agenda topics.

DATES: The meeting will be held on March 11, 2008 from 9 a.m. to 4 p.m.

To request accommodation of a disability, please contact the person listed under FOR FURTHER INFORMATON CONTACT, preferably at least 10 days prior to the meeting, to give EPA as much time as possible to process your request.

ADDRESSES: The meeting will be held at EPA, Office of Pesticide Programs (OPP), One Potomac Yard (South Bldg.), 1st Floor South Conference Room, 2777 S. Crystal Drive, Arlington, VA 22202.

FOR FURTHER INFORMATION CONTACT: Michael Barrett, Environmental Fate and Effects Division (7507P), Office of Pesticide Programs, Environmental Protection Agency, 1200 Pennsylvania Ave., NW., Washington, DC 20460-0001; telephone number: (703) 305-6391; fax number: (703) 305-6309; e-mail address: barrett.michael@epa.gov.

SUPPLEMENTARY INFORMATION:

I. General Information

A. Does this Action Apply to Me?

You may be potentially affected by this action if you are required to conduct testing of chemical substances under the Toxic Substances Control Act (TSCA), the Federal Food, Drug and Cosmetic Act (FFDCA), or the Federal Insecticide, Fungicide, and Rodenticide Act (FIFRA). Since other entities may also be interested, the Agency has not attempted to describe all the specific entities that may be affected by this action. If you have nay questions regarding the applicability of this action to a particular entity, consult the person listed under FOR FURTHER INFORMATION CONTACT.

B. How Can I Get Copies of this Document and Other Related Information?

1. Docket. EPA has established a docket for this action under docket ID number EPA-HQ-OPP-2008-0102. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

On a triannual interval, an Exposure Modeling Public Meeting will be held for presentation and discussion of current issues in modeling pesticide fate, transport, and exposure in support of risk assessment in a regulatory context. Meeting dates and abstract requests are announced through the “empmlist” forum on the LYRIS list server at https://lists.epa.gov/read/all_forums/.

III. How Can I Request to Participate in this Meeting?

You may submit a request to participate in this meeting to the person listed under FOR FURTHER INFORMATION CONTACT. Do not submit any information in your request that is considered CBI. Requests to participate in the meeting, identified by docket ID number EPA-HQ-OPP-2008-0102, must be received on or before [15 days after date of publication in the Federal Register].

IV. Tentative Topics for the Meeting

General Theme: Large-Scale Monitoring for Contaminant Modeling: Strategies, Results, and Future Directions

Specific Topics

Atrazine and Nitrate in Rural Drinking Water Wells

Analysis of Long-Term Trends in Atrazine Occurrence in Raw Water of 103 CWSs

Aldicarb Potable Well Monitoring Program - Study Design, Collection of Ancillary Field Data, and Relevance for Dietary Risk Assessments

Review of Monitoring Drinking Water Data from Surface Waters: Use in Dietary Risk Assessment; Site Selection and Auxilliary Data Collection Issues

Inverse Model for Determining Agricultural Watershed N Balances from Stream Nitrate Data

Implementation of Best Management Practices for Atrazine Herbicide in the Little Arkansas River Watershed

Estimating the Effects of Pesticides on Macroinvertebrate Assemblage Composition Using Field Data

Pathways for Drinking Water Well Contamination

Source Water and Finished Drinking Water Quality

Overview of NAWQA Status and Plans for National Monitoring of Streams and Ground Water

List of Subjects

Environmental protection, Modeling, Monitoring, Pesticides, Pest.

Dated: February 12, 2008.
Donald J. Brady,
Director, Environmental Fate and Effects Division.

[FR Doc. E8-3125 Filed 2-19-08; 8:45 am]

BILLING CODE 6560-50-S